DEPARTMENT OF ENERGY

Federal Energy Regulatory Commission

Combined Notice of Filings #2

Take notice that the Commission received the following electric rate filings:

Docket Numbers: ER10-2397-001; ER10-2398-002; ER10-2399-002; ER10-2400-001; ER10-2401-001; ER10-2402-001; ER11-3414-003; ER10-2403-001; ER10-2952-003; ER10-2955-003; ER10-2405-001; ER10-2406-002; ER10-2407-001; ER10-2408-002; ER10-2409-002; ER10-2410-002; ER10-2411-003; ER10-2412-003; ER10-2414-002; ER11-2935-003; ER10-2425-001; ER10-2424-001; ER10-2426-002; ER11-2576-001; ER10-2428-001.

Applicants: Old Trail Wind Farm, LLC, Telocaset Wind Power Partners, LLC, High Prairie Wind Farm II, LLC, Cloud County Wind Farm, LLC, Pioneer Prairie Wind Farm I, LLC, Sagebrush Power Partners, LLC, Arlington Wind Power Project LLC, Marble River, LLC, Flat Rock Windpower LLC, Rail Splitter Wind Farm, LLC, Blue Canyon Windpower LLC, Wheat Field Wind Power Project LLC, Blue Canyon Windpower II, LLC, Lost Lakes Wind Farm LLC, Blue Canyon Windpower V LLC, Meadow Lake Wind Farm LLC, Meadow Lake Wind Farm II LLC, Blackstone Wind Farm LLC, Meadow Lake Wind Farm IV LLC, Meadow Lake Wind Farm III LLC, Blackstone Wind Farm II LLC, High Trail Wind Farm, LLC, Flat Rock Windpower II LLC, Paulding Wind Farm II LLC, Blue Canyon Windpower VI LLC.

Description: Notice of Non-Material Change in Status of Arlington Wind Power Project LLC, et al.

Filed Date: 6/11/12.

Accession Number: 20120611-5129.

Comments Due: 5 p.m. ET 7/2/12.

Docket Numbers: ER12-1990-000.

Applicants: Southern California Edison Company.

Description: Notice of Cancellation of SGIA WDAT SERV AG with FlexEnergy, LLC to be effective 3/26/2012.

Filed Date: 6/11/12.

Accession Number: 20120611-5079.

Comments Due: 5 p.m. ET 7/2/12.

Take notice that the Commission received the following qualifying facility filings:

Docket Numbers: QF12-404-000.

Applicants: Hartford Steam Company, LLC.

Description: Hartford Steam Company, LLC submits FERC Form 556 Notice of Certification of Qualifying Facility Status for a Small Power Production or Cogeneration Facility.

Filed Date: 6/8/12.

Accession Number: 20120608-5111.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: June 11, 2012.
Nathaniel J. Davis, Sr.,
Deputy Secretary.

[FR Doc. 2012-15142 Filed 6-20-12; 8:45 am]

BILLING CODE 6717-01-P